Title 3—

The President

Proclamation 8513 of April 30, 2010

Jewish American Heritage Month, 2010

By the President of the United States of America

A Proclamation

In 1883, the Jewish American poet Emma Lazarus composed a sonnet, entitled “The New Colossus,” to help raise funds for erecting the Statue of Liberty. Twenty years later, a plaque was affixed to the completed statue, inscribed with her words: “Give me your tired, your poor, your huddled masses yearning to breathe free....” These poignant words still speak to us today, reminding us of our Nation’s promise as a beacon to all who are denied freedom and opportunity in their native lands.

Our Nation has always been both a haven and a home for Jewish Americans. Countless Jewish immigrants have come to our shores seeking better lives and opportunities, from those who arrived in New Amsterdam long before America’s birth, to those of the past century who sought refuge from the horrors of pogroms and the Holocaust. As they have immeasurably enriched our national culture, Jewish Americans have also maintained their own unique identity. During Jewish American Heritage Month we celebrate this proud history and honor the invaluable contributions Jewish Americans have made to our Nation.

The Jewish American story is an essential chapter of the American narrative. It is one of refuge from persecution; of commitment to service, faith, democracy, and peace; and of tireless work to achieve success. As leaders in every facet of American life—from athletics, entertainment, and the arts to academia, business, government, and our Armed Forces—Jewish Americans have shaped our Nation and helped steer the course of our history. We are a stronger and more hopeful country because so many Jews from around the world have made America their home.

Today, Jewish Americans carry on their culture’s tradition of “tikkun olam”—or “to repair the world”—through good deeds and service. As they honor and maintain their ancient heritage, they set a positive example for all Americans and continue to strengthen our Nation.

NOW, THEREFORE, I, BARACK OBAMA, President of the United States of America, by virtue of the authority vested in me by the Constitution and the laws of the United States, do hereby proclaim May 2010 as Jewish American Heritage Month. I call upon all Americans to observe this month with appropriate programs, activities, and ceremonies to celebrate the heritage and contributions of Jewish Americans.

IN WITNESS WHEREOF, I have hereunto set my hand this thirtieth day of April, in the year two thousand ten, and of the Independence of the United States of America the two hundred and thirty-fourth.

[FR Doc. 2010-11013

Filed 5-6-10; 8:45 am]

Billing code 3195-W0-P